DEPARTMENT OF DEFENSE

Office of the Secretary

Renewal of the Defense Finance and Accounting Service Board of Advisors

ACTION: Notice.

SUMMARY: The Defense Finance and Accounting Service (DFAS) Board of Advisors is being renewed in consonance with the public interest and in accordance with the provisions of Pub. L. 92-463, the “Federal Advisory Committee Act,” Title 5 U.S.C., Appendix 2.

The DFAS Board of Advisors advises and assists the Under Secretary of Defense (Comptroller) and the Director, DFAS, with respect to providing world class finance and accounting services to the Department of Defense (DoD).

The DFAS Board of Advisors will continue to consist of a balanced membership of approximately ten senior executives and flag rank military officers, as well as several representatives from the private sector appointed by the Secretary of Defense.

FOR FURTHER INFORMATION CONTACT: Please contact Ms. Beverly Lemon, DFAS, 703-607-3839.

Dated: February 3, 2003.
Patricia L. Toppings,
Alternate OSD Federal Register Liaison Officer, Department of Defense.

[FR Doc. 03-2977 Filed 2-6-03; 8:45 am]

BILLING CODE 5001-08-M